DEPARTMENT OF COMMERCE

Bureau of Industry and Security

Action Affecting Export Privileges; Yaudat Mustafa Talyi, a.k.a. Joseph Talyi, and International Business Services, Ltd. and Top Oil Tools, Ltd.

Correction

In notice document 03-7858 beginning on page 15982 in the issue of Wednesday, April 2, 2003, make the following correction:

On page 15982, in the second column, in the fifth line, “800” should read, “888”.

[FR Doc. C3-7858 Filed 4-11-03; 8:45 am]

BILLING CODE 1505-01-D

NUCLEAR REGULATORY COMMISSION

10 CFR Part 171

RIN 3150-AH14

Revision of Fee Schedules; Fee Recovery for FY 2003

Correction

In proposed rule document 03-7814 beginning on page 16374 in the issue of Thursday, April 3, 2003, make the following correction:

171.16 [Corrected]

On page 16389, in 171.16, in the second table, in the second column, in the fourth entry, “1,957,00” should read, “1,957,000”.

[FR Doc. C3-7814 Filed 4-11-03; 8:45 am]

BILLING CODE 1505-01-D

DEPARTMENT OF TRANSPORTATION

Federal Aviation Administration

14 CFR Part 71

[Docket No. FAA-2003-14644; Airspace Docket No. 03-AGL-01]

Proposed Modification of Class E Airspace; Kenton, OH; Proposed Rescission of Class E Airspace; Bellefontaine, OH

Correction

In proposed rule document 03-7663 beginning on page 15388 in the issue of Monday, March 31, 2003, make the following correction:

§71.1 [Corrected]

On page 15389, in the third column, in §71.1, under the heading AGL OH E5 Kenton, OH [Revised], in the fifth line, “long. 83° 57′′W.,” should read “ 83°30′57′′W.,”.

[FR Doc. C3-7663 Filed 4-11-03; 8:45 am]

BILLING CODE 1505-01-D